LIBRARY OF CONGRESS

Copyright Office

37 CFR Part 202

[Docket No. RM 2009-3]

Mandatory Deposit of Published Electronic Works Available Only Online

AGENCY: Copyright Office, Library of Congress.

ACTION: Proposed rule; extension of time to file reply comments.

SUMMARY: The Copyright Office is extending the time in which reply comments may be filed in response to its Notice of Proposed Rulemaking regarding amendments to regulations governing mandatory deposit of electronic works published in the United States and available only online.

DATES: Reply comments must be received in the Office of the General Counsel of the Copyright Office no later than October 16, 2009.

ADDRESSES: If hand delivered by a private party, an original and five copies of a comment or reply comment should be brought to the Library of Congress, U.S. Copyright Office, Room 401, 101 Independence Avenue, SE, Washington, DC 20559, between 8:30 a.m. and 5 p.m. E.D.T. The envelope should be addressed as follows: Office of the General Counsel, U.S. Copyright Office. If sent by mail (including overnight delivery using U.S. Postal Service Express Mail), an original and five copies of a comment or reply comment should be addressed to U.S. Copyright Office, Copyright GC/I&R, P.O. Box 70400, Washington, DC 20024.

FOR FURTHER INFORMATION CONTACT: Tanya M. Sandros, Deputy General Counsel, or Christopher Weston, Attorney Advisor, Copyright GC/I&R, P.O. Box 70400, Washington, DC 20024. Telephone: (202) 707-8380. Telefax: (202)-707-8366.

SUPPLEMENTARY INFORMATION: Earlier this year the Copyright Office issued a Notice of Proposed Rulemaking proposing to amend its regulations governing mandatory deposit of electronic works published in the United States and available only online. The amendments would establish that such works are exempt from mandatory deposit until a demand for deposit of copies or phonorecords of such works is issued by the Copyright Office. They would also set forth the process for issuing and responding to a demand for deposit, amend the definition of a “complete copy” of a work for purposes of mandatory deposit of online-only works, and establish new best edition criteria for electronic serials available only online. The Office requested comments and reply comments to its proposal. 74 FR 34286 (July 15, 2009).

Due to an inadvertent routing error, an additional initial comment, while received at the designated addresses before the due date, was received by the Office of the General Counsel two weeks after the deadline, thus delaying their availability to the public. Because this delay will impair the ability of reply commenters to sufficiently consider all of the initial comments in the allotted time, the Office is extending the date by which reply comments must be received to October 16, 2009.

Dated: September 17, 2009.
Tanya Sandros
Deputy General Counsel, U.S. Copyright Office.

[FR Doc. E9-22791 Filed 9-21-09; 8:45 am]

BILLING CODE 1410-30-S